DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: School Enrollment Report.

Form Number(s): P-4.

Agency Approval Number: 0607-0459.

Type of Request: Extension of a currently approved collection.

Burden: 15 hours.

Number of Respondents: 30.

Avg Hours Per Response: 30 minutes.

Needs and Uses: The Census Bureau requests an extension of the current Office of Management and Budget clearance of the School Enrollment Report. Collection of school enrollment data is necessary to produce annual estimates of the population of states for application to current Federal programs. Each year, in the spring, the Census Bureau sends the School Enrollment Report to 30 state departments of education. The remaining states publish reports early in the year and we obtain those in our Census Bureau library. We request fall public and nonpublic school enrollment by grade for the state and selected counties in 24 of the states. In six states we request year end enrollment. Most of the respondents send back a printout or prepublication copy of their annual report instead of filling out the survey form. Many of the 30 departments of education will eventually publish reports containing enrollment figures, but not in time to use in our estimates.

School enrollment data are used by the Census Bureau to estimate both total state population and state population by age and sex. The Census Bureau's population estimates are regularly used by dozens of Federal agencies for allocating Federal program funds, as bases for rates of occurrence, and as input for Federal surveys. The estimates are also used by state and local governments, businesses, and the public for planning and other informational uses.

Affected Public: State, local, or Tribal government.

Frequency: Annually.

Respondent's Obligation: Voluntary.

Legal Authority: Title 13 U.S.C., Sections 181 and 182.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: July 25, 2001.
Madeleine Clayton,
Departmental Paperwork Clearance Officer, Office of the Chief Information Officer.

[FR Doc. 01-18986 Filed 7-30-01; 8:45 am]

BILLING CODE 3510-07-P